DEPARTMENT OF AGRICULTURE

Rural Business-Cooperative Service

Rural Utilities Service

Notice of Funds Availability (NOFA) Inviting Applications for the Biorefinery Assistance Program

AGENCY: Rural Business-Cooperative Service and Rural Utilities Service, USDA.

ACTION: Notice of Funds Availability: Extension of Application Deadline.

SUMMARY: With this notice, the Agency is extending the period of time for acceptance of applications for Fiscal Year 2011 program funds available under the Biorefinery Assistance Program, which provides guaranteed loans for the development and construction of commercial-scale biorefineries or for the retrofitting of existing facilities using eligible technology for the development of advanced biofuels.

DATES: Applications must be received in the USDA Rural Development National Office no later than 4:30 pm Eastern Time on July 6, 2011 in order to compete for Fiscal Year 2011 program funds. Any application received after 4:30 pm Eastern Time on July 6, 2011, regardless of the application's postmark, will not be considered for Fiscal Year 2011 program funds.

ADDRESSES: Applications and forms may be obtained from:

• U.S. Department of Agriculture, Rural Development, Energy Branch, Attention: BioRefinery Assistance Program, 1400 Independence Avenue, SW., STOP 3225, Washington, DC 20250-3225.

• Agency Web site: http://www.rurdev.usda.gov/BCP_Biorefinery.html. Follow instructions for obtaining the application and forms.

Submit an original completed application with two copies to USDA's Rural Development National Office: Energy Branch, Attention: BioRefinery Assistance Program, 1400 Independence Avenue, SW., STOP 3225, Washington, DC, 20250-3225.

FOR FURTHER INFORMATION CONTACT: Kelley Oehler, Energy Branch, Biorefinery Assistance Program, U.S. Department of Agriculture, 1400 Independence Avenue, SW., Mail Stop 3225, Washington, DC, 20250-3225. Telephone: 202-720-6819. E-mail: kelley.oehler@wdc.usda.gov.

SUPPLEMENTARY INFORMATION:

On March 11, 2011, the Agency issued a Notice of Funds Availability (NOFA) for the Biorefinery Assistance program (the “Program”) in the Federal Register (76 FR 13351) announcing the availability of approximately $129 million in mandatory budget authority to support guaranteed loans under this Program in Fiscal Year 2011, in addition to any carry-over funds from Fiscal Year 2010. This budget authority represents approximately $463 million in program funds. Further, the March 11, 2011, NOFA provided the opportunity to submit applications for the Program, with an original application deadline of May 10, 2011.

The Agency has received 10 applications in response to the March 11, 2011, NOFA. These applications are the first applications received subsequent to the Biorefinery Assistance Program's interim rule published on February 14, 2011 (76 FR 8404). As there was some confusion about the information to be provided, the Agency has determined it appropriate to extend the application deadline.

All other requirements for submitting applications remain the same as described in the March 11, 2011, NOFA.

Dated: May 31, 2011.
Cheryl L. Cook,
Acting Under Secretary, Rural Development.

[FR Doc. 2011-13850 Filed 6-3-11; 8:45 am]

BILLING CODE 3410-XY-P